FEDERAL COMMUNICATIONS COMMISSION

[OMB 3060-0716, 3060-0991 and 3060-1248; FRS 17318]

Information Collections Being Submitted for Review and Approval to Office of Management and Budget

Correction

In notice document 2020-28022 appearing on pages 83079-83081 in the issue of Monday, December 21, 2020, make the following correction:

On page 83079, in the third column, in the DATES section, change “January 20, 2021” to read “January 21, 2021.”

[FR Doc. C1-2020-28022 Filed 1-12-21; 8:45 am]

BILLING CODE 1301-00-D